DEPARTMENT OF THE INTERIOR

Bureau of Land Management

[CA-610-01-1610-DQ]

Notice of Availability of the Northern and Eastern Colorado Desert Proposed Plan, an Amendment to the California Desert Conservation Area Plan, and the Final Environmental Impact Statement

AGENCY: Department of Interior, Bureau of Land Management, California Desert District.

ACTION: Notice of Availability of the Northern and Eastern Colorado Desert Proposed Plan (NECO), an amendment to the Bureau of Land Management (BLM) California Desert Conservation Area (CDCA) Plan, and associated Final Environmental Impact Statement (FEIS).

SUMMARY: NECO amends the CDCA Plan for a 5.5 million acre area in the southeastern part of the CDCA and provides for conservation of desert ecosystems for federal lands in the planning area on a landscape basis—for BLM lands, Joshua Tree National Park, and the Chocolate Mountains Aerial Gunnery Range, managed by the U.S. Marine Corps Yuma Air Station. NECO includes goals, objectives, management prescriptions, and monitoring in accordance with the Federal Land Policy and Management Act (FLPMA) of 1976 for comprehensive management of desert ecosystems, including the recovery of two species listed under the federal Endangered Species Act: the desert tortoise and Coachella Valley milkvetch. The FEIS evaluates the Proposed Plan Amendments and three alternatives. The FEIS also includes public comments on the DEIS and BLM's responses to those comments.

DATES: Written protests on the FEIS will be accepted if received by September 3, 2002, by the Environmental Protection Agency. Instructions for filing protests are contained in the NECO document Cover Sheet just inside the front cover, and are included below under SUPPLEMENTARY INFORMATION.

ADDRESSES: Copies of the document are being mailed to those who received the DEIS or provided comments on the DEIS. The document is available for review on line at http://www.ca.blm.gov/cdd/land useplanning.html and is also available in hard copy or CDrom at the following addresses and telephone numbers:

BLM, 6221 Box Springs Blvd, Riverside, CA 92507; (909) 697-5200

BLM, 2601 Barstow Road, Barstow, CA 92311; (760) 252-6000

BLM, 300 So. Richmond Rd, Ridgecrest, CA 93555; (760) 384-5400

BLM, 690 W. Garnet, North Palm Springs, CA 92258; (760) 251-4800

BLM, 1661 So. 4th St., El Centro, CA 92243; (760) 337-4400

BLM, 101 W. Spikes Rd, Needles, CA 92363; (760) 326-7000

FOR FURTHER INFORMATION CONTACT: Richard E. Crowe, BLM, 6221 Box Springs Blvd, Riverside, CA 92507; (909) 697-5216.

Background Information: The Environmental Protection Agency published the Notice of Availability of the NECO DEIS in the Federal Register on February 23, 2001. The public review period on the DEIS began February 26, 2001 and ended November 1, 2001.

SUPPLEMENTARY INFORMATION: Following are the instructions from the 43 Code of Federal Regulations 1610.5-2 for filing protests:

(a) Any person who participates in the planning process and has an interest which is or may be adversely affected by the approval or amendment of a resource management plan may protest such approval or amendment. A protest may raise only those issues which were submitted for the record during the planning process.

(1) The protest shall be in writing and shall be filed with the Director. The protest shall be filed within 30 days of the date the Environmental Protection Agency published the notice of receipt of the final environmental impact statement containing the plan or amendment in the Federal Register. For an amendment not requiring the preparation of an environmental impact statement, the protest shall be filed within 30 days of the publication of the notice of its effective date.

(2) The protest shall contain:

(i) The name, mailing address, telephone number and interest of the person filing the protest;

(ii) A statement of the issue or issues being protested;

(iii) A statement of the part or parts of the plan or amendment being protested;

(iv) A copy of all documents addressing the issue or issues that were submitted during the planning process by the protesting party or an indication of the date the issue or issues were discussed for the record; and

(v) A concise statement explaining why the State Director's decision is believe to be wrong.

(3) The Director shall promptly render a decision on the protest. The decision shall be in writing and shall set forth the reasons for the decision. The decision shall be sent to the protesting party by certified mail, return receipt requested.

(b) The decision of the Director shall be the final decision for the Department of the Interior.

Mailing address for filing a protest:

Regular mail—U.S. Department of the Interior, Director, Bureau of Land Management (210), Attn: Brenda Williams, P.O. Box 66538, Washington, DC 20240.

Overnight mail—U.S. Department of the Interior, Director, Bureau of Land Management (210), Attn: Brenda Williams, Telephone (202) 452-5045, 1620 “L” Street, NW., Rm 1075, Washington, DC 20036.

Alan Stein,
Acting District Manager.

[FR Doc. 02-19303 Filed 8-1-02; 8:45 am]

BILLING CODE 4310-40-P